DEPARTMENT OF COMMERCE

National Oceanic and Atmospheric Administration

50 CFR Part 660

[Docket No. 140904754-5188-02]

RIN 0648-BF63

Magnuson-Stevens Act Provisions; Fisheries Off West Coast States; Pacific Coast Groundfish Fishery; 2015-2016 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces inseason changes to management measures in the Pacific Coast groundfish fisheries. This action, which is authorized by the Pacific Coast Groundfish Fishery Management Plan (PCGFMP), is intended to allow fisheries to access more abundant groundfish stocks while protecting overfished and depleted stocks. This document also announces a prohibition on the use of midwater trawl gear in the Shorebased Individual Fishing Quota (IFQ) Program shoreward of the boundary line approximating the 150 fm (274 m) depth contour via automatic action, with actual notice (by phone and email) to participants, at noon local time, November 26, 2015 in order to reduce the risk of exceeding the canary rockfish annual catch limit (ACL).

DATES: This final rule is effective January 1, 2016. The depth restrictions for midwater trawl gear were made through automatic action, and are published in the Federal Register as soon as practicable after they are issued. The depth restriction for vessels using midwater trawl gear, which was announced by actual notice (by phone and email) prior to implementation, is applicable from noon local time, November 26, 2015 through midnight local time, December 31, 2015.

FOR FURTHER INFORMATION CONTACT: Gretchen Hanshew, phone: 206-526-6147, fax: 206-526-6736, or email: gretchen.hanshew@noaa.gov.

SUPPLEMENTARY INFORMATION:

Electronic Access

This rule is accessible via the Internet at the Office of the Federal Register Web site at https://www.federalregister.gov. Background information and documents are available at the Pacific Fishery Management Council's Web site at http://www.pcouncil.org/. Copies of the final environmental impact statement (FEIS) for the Groundfish Specifications and Management Measures for 2015-2016 and Biennial Periods Thereafter are available from Donald McIsaac, Executive Director, Pacific Fishery Management Council (Council), 7700 NE Ambassador Place, Portland, OR 97220, phone: 503-820-2280.

Background

The Pacific Fishery Management Council (Council)—in coordination with Pacific Coast Treaty Indian Tribes and the States of Washington, Oregon, and California—recommended changes to groundfish management measures at its November 13-19, 2015, meeting. Specifically, the Council recommended a revised schedule of trip limits for big skate in the Shorebased IFQ Program for 2016. This rule revises big skate trip limits consistent with the Council's November recommendations.

Before 2015, big skate was managed as a component stock within the Other Fish complex. The big skate overfishing limit (OFL) estimate, along with the estimated OFLs for the other species in the complex, contributed to the OFL specified in regulation for the Other Fish complex. Species managed in complexes do not have OFLs specified in regulation. The Council recommended, and NMFS approved, the designation of big skate as an ecosystem component species, beginning in 2015 (80 FR 12567, March 10, 2015). As described in the inseason action that implemented trip limits for big skate in 2015 (80 FR 31858, June 4, 2015), new information available during 2015 indicated that harvest of big skate was much higher than anticipated and was approaching or exceeding the 2014 estimated OFL contribution. The Council recommended, and NMFS implemented, trip limits on June 1, 2015, to reduce impacts to big skate in the Shorebased IFQ Program. Trip limits for big skate were further adjusted on August 14, 2015, after review of updated fishery information and best available information regarding discard mortality of big skate (80 FR 50212, August 19, 2015). As part of the ongoing development of the 2017-2018 specifications, the Council is reconsidering whether big skate should be reclassified because the species may not be appropriate as an ecosystem component species.

At its November meeting, the Council considered updated fishery information and further refined big skate trip limits for the second year of the biennial cycle. The Council's Groundfish Management Team (GMT) continued analysis of available fishery data to estimate and project catch of big skate in the Shorebased IFQ Program under different trip limit scenarios. The Council considered an apparent seasonal fluctuation in both frequency and magnitude of big skate landings, with higher catch in the summer and lower catch in the winter. The Council also considered feedback from individuals in the Shorebased IFQ Program regarding catch patterns and targeting practices.

The Council recommended, and NMFS is implementing, the following big skate trip limits in the Shorebased IFQ Program, beginning January 1, 2016: 5,000 lbs/2 months (2,268 kg/2 months) for Period 1; 25,000 pounds/2 months (11,340 kg/2 months) for Period 2; 30,000 pounds/2 months (13,608 kg/2 months) for Period 3; 35,000 pounds/2 months (15,876 kg/2 months) for Period 4; 10,000 pounds/2 months (4,536 kg/2 months) for Period 5; and 5,000 pounds/2 months (2,268 kg/2 months) for Period 6. Best estimates indicate that total mortality of big skate through the end of 2016 under this trip limit structure would be 450 mt, 91 mt lower than the estimated 2016 OFL of 541 mt and 44 mt lower than the estimated 2016 ABC of 494 mt.

Depth Restriction via Actual Notice in the Shorebased IFQ Program

Subsequent to the November Council meeting, higher than anticipated catch of canary rockfish occurred in the Shorebased IFQ Program. NMFS took automatic action to impose a depth restriction for vessels using midwater trawl gear in the Shorebased IFQ Program, applicable at noon local time, November 26, 2015. This rule serves as notification of the November 26, 2015 automatic action.

The Shorebased IFQ Program may be restricted or closed, as determined necessary by the Regional Administrator, as a result of projected overages within the Shorebased IFQ Program, the Mothership Coop Program, or the Catcher/Processor Coop Program. As of November 24, 2015, the Shorebased IFQ Program was projected to exceed the total quota pounds available to the sector (2015 allocation, plus surplus carryover from 2014) if current harvest levels continued and without management action. At noon, on November 26, 2015 the National Marine Fisheries Service (NMFS) prohibited the use of midwater trawl gear in the Shorebased IFQ Program for the remainder of 2015, shoreward of the boundary line approximating the 150 fathom depth contour (150 fm line). This bycatch reduction measure was taken as an automatic action, per regulations at 50 CFR 660.140(a)(3), to reduce potential impacts on canary rockfish, an overfished species subject to rebuilding requirements under the Magnuson Stevens Fishery Conservation and Management Act. NMFS provided actual notice of the closure to participants by phone and email. In addition, NMFS posted on the West Coast Region's internet site to provide notice to the affected fishers. Implementation of the prohibition on using midwater trawl gear (cease fishing) shoreward of the 150 fm line was effective 22 hours after the Public Notice, to allow for additional time for the public to become aware of the change in depth restrictions.

The Shorebased IFQ Program has a 2015 allocation of 43.26 mt of canary rockfish (with surplus carryover pounds from 2014: 47.28 mt). Higher than anticipated catch of canary rockfish occurred in the Shorebased IFQ Program by vessels using midwater trawl gear, exceeding the 2015 Shorebased IFQ Program allocation. Midwater trawl gear has been responsible for an increasing proportion of the annual canary rockfish landings in the Shorebased IFQ Program and data from the Northwest Fisheries Science Center shelf-slope bottom trawl survey indicates that canary rockfish are distributed overwhelmingly shoreward of the boundary line approximating the 150 fm depth contour.

Therefore, NMFS implemented a depth restriction for vessels using midwater trawl gear in the Shorebased IFQ Program to reduce the risk of exceeding the total amount of canary rockfish available the Shorebased IFQ Program, total trawl allocation, and the canary rockfish ACL, through the end of the year.

Technical Edits

LEFG and OA Sablefish Trip Limits

Regulatory changes published in this rule also clarify, but do not revise, sablefish trip limits in the limited entry fixed gear and open access fisheries north of 36° N. lat. The 2016 sablefish ACL is higher than in 2015 and the Council recommended and NMFS implemented a schedule of slightly higher trip limits for the second year of the biennial period, as described in the January 6, 2015 proposed rule (80 FR 687) and implemented in Tables 2 North and 2 South, Subpart E and Tables 3 North and 3 South, Subparts F (80 FR 12567, March 10, 2015). Because of the format of these tables, the higher 2016 trip limits were published in the footnotes, anticipating that an inseason for January 1, 2016 would incorporate movement of those trip limits from the footnote to the body of the table. This formatting change does not revise the 2016 sablefish trip limits for non-IFQ fisheries north of 36° N. lat. that were described and implemented through notice and comment rulemaking. Accordingly, this rule modifies Tables 2 North and 2 South, Subpart E and Tables 3 North and 3 South, Subparts F by moving the schedule of 2016 trip limits, unchanged, from footnotes into the body of the tables.

Classification

This final rule makes routine inseason adjustments to groundfish fishery management measures, based on the best available information. This document also serves as notice of an automatic action, based on the best available information. Both are consistent with the PCGFMP and its implementing regulations.

This action is taken under the authority of 50 CFR 660.60(c) and (d), and 660.140(a)(3) and is exempt from review under Executive Order 12866.

The aggregate data upon which these actions are based are available for public inspection at the Office of the Administrator, West Coast Region, NMFS, during business hours.

NMFS finds good cause to waive prior public notice and comment on the revisions to groundfish management measures under 5 U.S.C. 553(b) because notice and comment would be impracticable and contrary to the public interest. Also, for the same reasons, NMFS finds good cause to waive the 30-day delay in effectiveness pursuant to 5 U.S.C. 553(d)(3), so that the regulatory changes in this final rule may become effective January 1, 2016.

New analysis regarding projected catch of big skate was presented to the Council at its November 2015 meeting. At that meeting, the Council recommended that these changes to big skate trip limits be implemented January 1, 2016, which is the start of the second year of the biennial cycle and the beginning of a cumulative limit period in the commercial groundfish fishery off the West Coast. These restrictions to the amount of landings must be implemented at the start of a cumulative limit period to allow fishermen in the Shorebased IFQ Program an opportunity to continue harvesting big skate, but at a level that will not exceed the new, lower trip limit that will be imposed in January 2016. The trip limits recommended by the Council and implemented by NMFS in this action are anticipated to keep catch of big skate below its estimated OFL, if implemented on January 1. If the recommended limits are not in place January 1, more restrictive measures may be necessary later in the year to keep catch of big skate below its estimated OFL. There was not sufficient time after the November meeting, when the new information was available, to undergo proposed and final rulemaking before January 1.

The depth restrictions in the Shorebased IFQ Program implemented by the Regional Administrator via actual notice are intended to reduce the risk of exceeding the trawl allocation and the 2015 ACL of canary rockfish. The closed area implemented by this rule needed to be in effect during the remainder of the 2015 fishery to shift midwater trawl effort in the Shorebased IFQ Program into deeper waters where they are less likely to catch canary rockfish. Prior notice and opportunity for public comment on this depth restriction was impracticable because NMFS had insufficient time to provide prior notice and the opportunity for public comment between the time the information about catch of canary rockfish became available and when restrictions were determined to be necessary to reduce the risk of further exceeding the 2015 Shorebased IFQ Program allocation, and also reduce the risk of exceeding the 2015 canary rockfish trawl allocation and the ACL. Failure to respond with a depth restriction in a timely manner to reduce the amount by which the 2015 Shorebased IFQ Program allocation for canary rockfish was exceeded would be contrary to the public interest, as it may have required more restrictive measures, perhaps even closure of the fishery, if higher than anticipated harvest of canary rockfish continued.

For the actions to be implemented in this final rule, affording the time necessary for prior notice and opportunity for public comment would prevent NMFS from managing fisheries using the best available science to prevent overfishing in accordance with the PCGFMP and applicable law.

Delaying these changes would also keep management measures in place that are not based on the best available information. Such delay would impair achievement of the PCGFMP goals and objectives of managing for appropriate harvest levels while providing for year-round fishing and marketing opportunities.

Accordingly, for the reasons stated above, NMFS finds good cause to waive prior notice and comment and to waive the delay in effectiveness.

List of Subjects in 50 CFR Part 660

Fisheries, Fishing, and Indian Fisheries.

Dated: December 24, 2015.
Alan D. Risenhoover,
Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Tables 1 North and 1 South to part 660, subpart D, are revised to read as follows:

BILLING CODE 3510-22-P

3. Tables 2 North and 2 South to part 660, subpart E, are revised to read as follows:

4. Tables 3 North and 3 South to part 660, subpart F, are revised to read as follows:

[FR Doc. 2015-32884 Filed 12-30-15; 8:45 am]

BILLING CODE 3510-22-P